CONSUMER PRODUCT SAFETY COMMISSION

[CPSC Docket No. 22-1]

Notice of Prehearing Conference

AGENCY: Consumer Product Safety Commission.

ACTION: Notice.

SUMMARY: Notice of prehearing conference for In the Matter of Leachco, Inc.; CPSC Docket No. 22-1.

DATES: Tuesday, July 11, 2023 at 11 a.m. Eastern Time.

ADDRESSES: This event will be held remotely.

FOR FURTHER INFORMATION CONTACT: Alberta E. Mills, Consumer Product Safety Commission, Office of the General Counsel, Office of the Secretary, cpsc-os@cpsc.gov; 240-863-8938; 301-504-7479.

SUPPLEMENTARY INFORMATION: The text of the Presiding Officer's June 30, 2023 Order Scheduling Prehearing Conference appears below.

Authority: Consumer Product Safety Act, 15 U.S.C. 2064.

Dated: June 30, 2023.
Alberta E. Mills,
Secretary, Consumer Product Safety Commission.

Federal Mine Safety and Health Review Commission

Office of the Chief Administrative Law Judge

1331 Pennsylvania Ave. NW, Suite 520N, Washington, DC 20004-1710, Telephone: 202-434-9950, Fax: 202-434-9949

June 30, 2023

In the Matter of

LEACHCO, INC.,

CPSC Docket No. 22-1

Respondent

Order Scheduling Prehearing Conference

Additional prehearing conferences “may be convened at the discretion of the Presiding Officer.” 16 CFR 1025.21(c) (2023). The parties have requested a final prehearing conference in preparation for the hearing scheduled for August 7, 2023. A prehearing conference shall be held as follows:

Date: Tuesday, July 11, 2023.

Time: 11 a.m. Eastern Time.

Means: Zoom [link provided to those listed in Distribution].

Commission rules require issuance of a final prehearing order “after the conclusion of the final prehearing conference.” 16 CFR 1025.21(e). Parties should be prepared to discuss the following topics:

1. Nature of action and jurisdiction.

2. Stipulations and statements.

3. Complaint Counsel's evidence.

4. Respondent's evidence.

5. Additional actions taken or requested.

6. Limitations and Reservations.

7. Logistical requirements for hearing, including presentation of exhibits, audio/visual requirements, and accommodations for witnesses or parties requiring translation or other services.

Id. Pt. 1025, App. I.¹ This agenda is not exhaustive, and the parties should confer and come prepared with any other topics they wish to discuss.

¹ This is a general topics list. Parties should refer to Appendix I for the requirements of each.

The CPSC should arrange for a court reporter for the prehearing conference. I direct that notice of this conference be published in the Federal Register. 16 CFR 1025.21(b).

Michael G. Young

Administrative Law Judge

Distribution

Brett Ruff, U.S. Consumer Product Safety Commission, 4330 East West Highway, Bethesda, MD 20814, bruff@cpsc.gov.

Rosalee Thomas, U.S. Consumer Product Safety Commission, 4330 East West Highway, Bethesda, MD 20814, rbthomas@cpsc.gov.

Caitlin O'Donnell, U.S. Consumer Product Safety Commission, 4330 East West Highway, Bethesda, MD 20814, codonnell@cpsc.gov.

Michael J. Rogal, U.S. Consumer Product Safety Commission, 4330 East West Highway, Bethesda, MD 20814, mrogal@cpsc.gov.

Gregory Reyes, U.S. Consumer Product Safety Commission, 4330 East West Highway, Bethesda, MD 20814, greyes@cpsc.gov.

Frank Perilla, U.S. Consumer Product Safety Commission, 4330 East West Highway, Bethesda, MD 20814, FPerilla@cpsc.gov.

Oliver J. Dunford, Pacific Legal Foundation, 4440 PGA Blvd., Suite 307, Palm Beach Gardens, FL 33410, ODunford@pacificlegal.org.

John F. Kerkhoff, Pacific Legal Foundation, 3100 Clarendon Boulevard, Suite 610, Arlington, VA 22201, JKerkhoff@pacificlegal.org.

Frank Garrison, Pacific Legal Foundation, 3100 Clarendon Boulevard, Suite 610, Arlington, VA 22201, FGarrison@pacificlegal.org.

Jessica L. Thompson, Pacific Legal Foundation, 3100 Clarendon Boulevard, Suite 610, Arlington, VA 22201, JLThompson@pacificlegal.org.

Alberta E. Mills, U.S. Consumer Product Safety Commission, 4330 East West Highway, Bethesda, MD 20814, amills@cpsc.gov.

[FR Doc. 2023-14333 Filed 7-6-23; 8:45 am]

BILLING CODE 6355-01-P